SMALL BUSINESS ADMINISTRATION

[Declaration of Disaster #3572]

Commonwealth of Massachusetts (Amendment #1)

In accordance with a notice received from the Department of Homeland Security—Federal Emergency Management Agency, effective April 30, 2004, the above numbered declaration is hereby amended to establish the incident period for this disaster as beginning on April 1, 2004, and continuing through April 30, 2004.

All other information remains the same, i.e., the deadline for filing applications for physical damage is June 21, 2004, and for economic injury the deadline is January 21, 2005.

(Catalog of Federal Domestic Assistance Program Nos. 59002 and 59008)
Dated: May 5, 2004.
Herbert L. Mitchell,
Associate Administrator for Disaster Assistance.

[FR Doc. 04-10698 Filed 5-10-04; 8:45 am]

BILLING CODE 8025-01-P